DEPARTMENT OF THE INTERIOR

Bureau of Land Management

[CO-200-0777-XM-241A]

Notice of Amendment of Meeting Date, Front Range Resource Advisory Council (Colorado)

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting will be held on September 2, 2004 at the Cripple Creek and Victor Meeting Room, 100 N. Third Street, Victor, Colorado beginning at 10 a.m. The public comment period will begin at approximately 10:15 a.m. and the meeting will adjourn at approximately 4 p.m.

SUPPLEMENTARY INFORMATION: The 15 member Council advises the Secretary of the Interior, through the Bureau of Land Management, on a variety of planning and management issues associated with public land management in the Royal Gorge Field Office and San Luis Valley, Colorado. Planned agenda topics include Manager updates on current land management issues and the Gold Belt Travel Management Plan.

All meetings are open to the public. The public is encouraged to make oral comments to the Council at 10:15 a.m. or written statements may be submitted for the Council's consideration. Depending on the number of persons wishing to comment and time available, the time for individual oral comments may be limited. The public is also welcome to attend the tour of the Cripple Creek and Victor Gold Mine if space is available, however they will need to call the Royal Gorge Field Office at (719) 269-8500 before August 23 to make arrangements. Summary minutes for the Council Meeting will be maintained in the Front Range Center Office and will be available for public inspection and reproduction during regular business hours and can also be viewed at http://www.blm.gov/rac/co/frrac/co_fr within thirty (30) days following the meeting.

FOR FURTHER INFORMATION CONTACT: Bureau of Land Management (BLM), Attn: Ken Smith, 3170 East Main Street, Canon City, Colorado 81212. Phone (719) 269-8500.

Dated: July 28, 2004.
Linda McGlothlen,
Acting Associate Front Range Center Manager.

[FR Doc. 04-17754 Filed 8-3-04; 8:45 am]

BILLING CODE 4310-JB-P